ENVIRONMENTAL PROTECTION AGENCY

[FRL-6728-7]

Agency Information Collection Activities; Submission for OMB Review; Comment Request; Tolerance Petitions for Pesticides on Food/Feed and New Inert Ingredients

AGENCY: Environmental Protection Agency (EPA).

ACTION: Notice of Submission to OMB.

SUMMARY: In compliance with the Paperwork Reduction Act (PRA) (44 U.S.C. 3501 et seq.), this notice announces that the Information Collection Request (ICR) has been forwarded to the Office of Management and Budget (OMB) for review and approval: Tolerance Petitions for Pesticides on Food/Feed and New Inert Ingredients, [EPA ICR No. 0597.07, OMB No. 2070-0024]. The ICR, which is abstracted below, expires on June 30, 2000. The ICR describes the nature of the information collection and its estimated cost and burden. The Agency is requesting that OMB renew approval of the ICR for a three year period. On June 9, 1999 (64 FR 30988), EPA solicited comment on this ICR pursuant to 5 CFR 1320.8(d). EPA received comments, which have been addressed in this ICR prior to submission to OMB.

DATES: Additional comments may be submitted on or before August 2, 2000.

FOR FURTHER INFORMATION: For a copy of the ICR contact Sandy Farmer by phone at 202-260-2740, by e-mail at farmer.sandy@epa.gov, or download off the Internet at http://www.epa.gov/icr and refer to EPA ICR No. 0597.07 and OMB Control No. 2070-0024.

ADDRESSES: Send comments, referencing the proper ICR numbers, to the following addresses: Sandy Farmer, U.S. Environmental Protection Agency, Collection Strategies Division (2822), 1200 Pennsylvania Avenue, N.W.,Washington, DC 20460; and to Office of Information and Regulatory Affairs, Office of Management and Budget (OMB), Attention: Desk Officer for EPA, 725 17th Street, N.W., Washington, DC 20503.

SUPPLEMENTARY INFORMATION: Title: Tolerance Petitions for Pesticides on Food/Feed and New Inert Ingredients [EPA ICR No. 0597.07, OMB No. 2070-0024]. This is a request to renew a currently approved information collection pursuant to 5 CFR 1320.12.

Abstract: The use of pesticides to increase crop production may result in pesticide residues in or on the crop. To protect the public health from unsafe pesticide residues, the Environmental Protection Agency (EPA) sets limits on the nature and level of residues permitted. Food or feed commodities found to contain pesticide residues in excess of established tolerances are considered adulterated, and are subject to seizure. This ICR covers all requests for tolerances, or exemptions from the requirement of a tolerance, for both active and inert ingredients in pesticides. The type of data that are required to be submitted is dependent on the type of tolerance that is sought.

An agency may not conduct or sponsor, and a person is not required to respond to, a collection of information unless it displays a currently valid OMB control number. The OMB control numbers for EPA's regulations are listed in 40 CFR part 9 and 48 CFR Chapter 15.

Burden Statement: Under the PRA, “burden” means the total time, effort, or financial resources expended by persons to generate, maintain, retain, or disclose or provide information to or for a Federal agency. The annual respondent burden for this collection of information is estimated to average 1,726 hours per petitioner. No forms are associated with this collection, however, petitioners must submit information related to: (1) The name, chemical identity, and composition of the pesticide chemical; (2) chemical use; (3) safety reports; (4) residue test results; (5) residue removal; (6) proposed MRLs for the pesticidal chemical; (7) reasonable grounds in support of the petition; (8) an analysis of factors relevant to the provisions of FQPA, specifically, aggregate exposure, children's exposure, special sensitivities, cumulative effects and endocrine disruptor effects; 9) an informative summary of the petition or application, including a summary of the supporting data, information, accompanying rationales, and a statement providing permission to publish such summary; and a cover letter and fee. The following is a summary of the estimates taken from the ICR:

Respondents/Affected Entities: Any person seeking a tolerance action.

Estimated Number of Annual Respondents: 150.

Frequency of Response: On occasion.

Estimated total annual responses for each respondent: 1.

Estimated Total Annual Burden: 258,900 hours.

Estimated Total Annual Non-labor Costs: $0.

Changes in Burden Estimates: The total burden associated with this ICR has increased from 216,300 hours in the previous ICR to 258,900 for this ICR. This increase in burden represents a change in the underlying statutory requirements under which the Agency may take a tolerance action. The ICR provides a more detailed description of these changes and the activities currently related to this ICR. As such, the Agency considers this to be a program change.

According to the procedures prescribed in 5 CFR 1320.12, EPA has submitted this ICR to OMB for review and approval. Any comments related to the renewal of this ICR should be submitted within 30 days of this notice, as described above.

Dated: June 21, 2000.
Oscar Morales,
Director, Collection Strategies Division.

[FR Doc. 00-16755 Filed 6-30-00; 8:45 am]

BILLING CODE 6560-50-U